DEPARTMENT OF THE INTERIOR

Office of the Secretary

[PPWOIRADA1;PRCRFRFR6.XZ0000;PR.RIRAD1801.00.1; OMB Control Number 1093-0006.]

Agency Information Collection Activities; Natural and Cultural Resources Agencies Customer Relationship Management

AGENCY: Office of the Secretary, Interior.

ACTION: Notice of information collection; request for comment.

SUMMARY: In accordance with the Paperwork Reduction Act of 1995, we, the Office of the Secretary, Department of the Interior are proposing to renew an information collection with revisions.

DATES: Interested persons are invited to submit comments on or before July 10, 2018.

ADDRESSES: Send your comments on this information collection request (ICR) by mail to Marta Kelly, National Park Service, U.S. Department of the Interior, 1849 C Street, NW, MS 2266-MIB, Washington, DC 20240, fax 202-354-1815, or by email to Marta_Kelly@nps.gov. Please reference OMB Control Number 1093-0006 in the subject line of your comments.

FOR FURTHER INFORMATION CONTACT: To request additional information about this ICR, contact Marta Kelly, National Park Service, U.S. Department of the Interior, 1849 C Street NW, MS 2266-MIB, Washington, DC 20240, fax 202-354-2825, or by email to Marta_Kelly@nps.gov.

SUPPLEMENTARY INFORMATION: In accordance with the Paperwork Reduction Act of 1995, we provide the general public and other Federal agencies with an opportunity to comment on new, proposed, revised, and continuing collections of information. This helps us assess the impact of our information collection requirements and minimize the public's reporting burden. It also helps the public understand our information collection requirements and provide the requested data in the desired format.

We are soliciting comments on renew of the ICR that is described below. We are especially interested in public comment addressing the following issues: (1) Is the collection necessary to the proper functions of the Office of the Secretary, Department of the Interior; (2) will this information be processed and used in a timely manner; (3) is the estimate of burden accurate; (4) how might the Office of the Secretary, Department of the Interior enhance the quality, utility, and clarity of the information to be collected; and (5) how might the Office of the Secretary, Department of the Interior minimize the burden of this collection on the respondents, including through the use of information technology.

Comments that you submit in response to this notice are a matter of public record. We will include or summarize each comment in our request to OMB to approve this ICR. Before including your address, phone number, email address, or other personal identifying information in your comment, you should be aware that your entire comment—including your personal identifying information—may be made publicly available at any time. While you can ask us in your comment to withhold your personal identifying information from public review, we cannot guarantee that we will be able to do so.

Abstract: The information collection under OMB Control number 1093-0006 received approval from OMB on August 04, 2015. This approval will expire on 8/31/2018 and we are now requesting comments as part of the standard renew and update process. This collection was formally known as Volunteer Partnership Management and Volunteer Application and Agreement for Natural Cultural Resources.

The Office of Management and Budget (OMB) regulations at 5 CFR part 1320, which implement the Paperwork Reduction Act of 1995, 44 U.S.C. 3501 et seq., require that interested members of the public and affected agencies have an opportunity to comment on information collection and recordkeeping activities (see 5 CFR 1320.8 (d)).

Federal natural and cultural resources management agencies are authorized to manage volunteers, youth programs, and partnerships to recruit, train, and accept the services of citizens to aid in disaster response, interpretive functions, visitor services, conservation measures and development, research and development, recreation, and or other activities as allowed by an agency's policy and regulations. Providing, collecting and exchanging written and electronic information is required from potential and selected program participants of all ages so they can access opportunities and benefits provided by agencies guidelines. Those under the age of 18 years must have written consent from a parent or guardian.

The customer relationship management web based portals are the agencies response to meeting citizens' requests for improved digital customer services to access and apply for engagement opportunities. Secure under one security platform parameter, the portals provide for prospective and current program participants to establish an account for electronic submission of program applications and to obtain status of applications, enrollments, benefits, and requirements. Additionally, citizens have the option of using self-service features to report hours, apply for opportunities, or register for program benefits such as America the Beautiful Pass, Public Land Corps register or Service Learning verification. This collection includes the modernization of electronic process so citizens maintain portal accounts with single program application which can be reused to apply for all interested opportunities verse requiring a program participants to electronically complete the application anew for each opportunity they wish to be considered. This specifically minimizes the burden on this collection on the respondents. While electronic records provides a means to streamline data collection and allow citizen access to track benefits and control the sharing of their data, the participating agencies may also provide an accessible paper version of the volunteer forms.

Participating Agencies are:

Department of Agriculture: U.S. Forest Service, and Natural Resources Conservation Service;

Department of the Interior: All DOI offices and units including National Park Service, U.S. Fish and Wildlife Service, Bureau of Land Management, Bureau of Reclamation, Bureau of Indian Affairs, Office of Surface Mining Reclamation and Enforcement, and U.S. Geological Survey.

Department of Defense: U.S. Army Corps of Engineers;

Department of Commerce: National Oceanic and Atmospheric Administration—Office of National Marine Sanctuaries.

Forms

OF-301 Volunteer Application: Individuals interested in volunteering may access the individual agency websites, and/or contact agencies to request a Volunteer Application (OF-301) or complete an on-line application submission on volunteer.gov on submission. Applicants provide name, address, telephone number, date of birth, preferred work categories, interests, citizenship status, available dates, preferred location, indication of physical limitations, and lodging preferences. Information collected using this form or volunteer.gov assists agency volunteer coordinators and other personnel in matching volunteers with agency opportunities appropriate for an applicant's skills and physical condition and availability. Signature of a parent or guardian is mandatory for applicants under 18 years of age.

OF-301A Volunteer Service Agreement: This form is used by participating resource agencies to document agreements for volunteer services between a Federal agency and individual or group volunteers, including international volunteers. Signature of parent or guardian is mandatory for applicants under 18 years of age. The agreement form will now be available for processing on volunteer.gov for the first time, this on-line this form is generated from the application and position description to minimize impact to respondents. Paper forms and electronic PDF must however be completed for each opportunity.

OF-301B Volunteer Group Sign-up: This form is used by participating resource agencies to document awareness and understanding by individuals in groups about the volunteer activities between a Federal agency and a partner organization with group participants. Signature of parent or guardian is mandatory for applicants under 18 years of age.

Stewards Engagement Portal (this was formally known as the Youth Partnership Tracking Portal): This portal has a self-registration feature that allows program participants from volunteer, youth, and partnerships to register with information that would be used to automate matching stewardship opportunities such as apprenticeships, youth programs, veterans' events, and other special engagement programs. Information required to establish an account is preference for location, name, email, qualifying factors, and training. Once self-registered, the youth and young adult programs participants authorized under the 16 U.S.C. 1722 et. seq., Public Lands Corps (PLC) Act may be required to report additional details for public land corps status such as the agency work for, partner organization, project dates, where the work was completed, and total hours worked on the specific project. This information is used by the system to match the individuals with most applicable opportunities. The steward engagement portal is under redesign and will incorporate a feedback loop for respondents to rate quality of customer service and opportunities.

The Partnerships Module collects information from various partnership and volunteer organizations which are under national agreements to manage services and programs on public lands for citizens and provides an annual summary of their activities.

The Cooperating Association Module collects information from not-for-profit public lands partners under national agreements to manage bookstores and sales items with federal agencies.

This request for comments on the information collection is being published by the Office of the Secretary, Department of the Interior and includes the use of common forms that can be leveraged by other Federal Agencies. The burden estimates reflected in this notice is only for the Department of the Interior. Other federal Agencies wishing to use the common forms must submit their own burden estimates and provide notice to the public accordingly.

Title of Collection: Natural and Cultural Resources Agencies Customer Relationship Management.

OMB Control Number: 1093-0006.

Form Number: None.

Type of Review: Revision of a currently approved collection.

Respondents/Affected Public: Potential and selected volunteers; youth program participants, veterans, prospective job applicants, cooperating associations, and partner organizations.

Total Estimated Number of Annual Respondents: 36,333.

Total Estimated Number of Annual Responses: 867,696.

Estimated Completion Time per Response: Total annual reporting per response: 5-60 minutes depending on the function being performed.

Total Estimated Number of Annual Burden Hours: 80,411.

Respondent's Obligation: Required to Obtain or Retain a Benefit.

Frequency of Collection: Typically once per year but could be as frequently as 26 times per year for time and expense reporting.

Total Estimated Annual Nonhour Burden Cost: There are no non-hour cost burdens associated with this information collection.

An agency may not conduct or sponsor and a person is not required to respond to a collection of information unless it displays a currently valid OMB control number.

The authority for this action is the Paperwork Reduction Act of 1995 (44 U.S.C. 3501 et seq.).

Jeffrey Parrillo,
Departmental Information Collection Clearance Officer.

[FR Doc. 2018-10026 Filed 5-10-18; 8:45 am]

BILLING CODE 4310-P